DEPARTMENT OF LABOR

Employment and Training Administration

[TA-W-57,214]

Omnova Solutions, Inc., Decorative Products Division, Jeannette, PA; Notice of Revised Determination on Reconsideration

By letter of July 18, 2005 United Steel Workers of America, Local 22 requested administrative reconsideration of the Department's negative determination regarding eligibility for workers and former workers of the subject firm to apply for Trade Adjustment Assistance (TAA) and Alternative Trade Adjustment Assistance (ATAA).

The initial investigation resulted in a negative determination signed on June 28, 2005 was based on the finding that there were no company imports of industrial films and laminates and no shift of production to a foreign source during the relevant period. The denial notice was published in the Federal Register on July 20, 2005 (70 FR 41792).

To support the request for reconsideration, the petitioner supplied additional information regarding the subject firm's joint venture with a foreign company and requested that the Department of Labor perform additional analysis of the data received upon the initial investigation.

Upon the revision of the data collected during the investigation and further contact with the subject firm's company official and subject firm's customer, it was revealed that the subject firm and a major declining customer increased its import purchases of industrial films and laminates during the relevant time period.

In accordance with Section 246 the Trade Act of 1974 (26 U.S.C. 2813), as amended, the Department of Labor herein presents the results of its investigation regarding certification of eligibility to apply for Alternative Trade Adjustment Assistance (ATAA) for older workers.

In order for the Department to issue a certification of eligibility to apply for ATAA, the group eligibility requirements of Section 246 of the Trade Act must be met. The Department has determined in this case that the requirements of Section 246 have been met.

A significant number of workers at the firm are age 50 or over and possess skills that are not easily transferable. Competitive conditions within the industry are adverse.

Conclusion

After careful review of the additional facts obtained on reconsideration, I conclude that increased imports of articles like or directly competitive with those produced at Omnova Solutions, Inc., Decorative Products Division, Jeannette, Pennsylvania, contributed importantly to the declines in sales or production and to the total or partial separation of workers at the subject firm. In accordance with the provisions of the Act, I make the following certification:

All workers of Omnova Solutions, Inc., Decorative Products Division, Jeannette, Pennsylvania who became totally or partially separated from employment on or after May 6, 2004 through two years from the date of this certification, are eligible to apply for adjustment assistance under Section 223 of the Trade Act of 1974, and are eligible to apply for alternative trade adjustment assistance under Section 246 of the Trade Act of 1974.

Signed in Washington, DC, this 19th day of August, 2005.
Elliott S. Kushner,
Certifying Officer, Division of Trade Adjustment Assistance.

[FR Doc. E5-4776 Filed 8-31-05; 8:45 am]

BILLING CODE 4510-30-P